DEPARTMENT OF THE INTERIOR

Minerals Management Service

Notice of Public Scoping Meetings on the Draft Environmental Impact Statement for the Proposed 5-Year Outer Continental Shelf (OCS) Oil and Gas Leasing Program for 2007-2012

SUMMARY: The Minerals Management Service (MMS) will hold Public Scoping Meetings on the Draft Environmental Impact Statement (DEIS) for the Proposed 5-Year OCS Oil and Gas Leasing Program for 2007-2012.

Pursuant to the regulations implementing the procedural provisions of the National Environmental Policy Act (42 U.S.C. 4321, et seq.), the MMS will hold Public Scoping Meetings on the Draft EIS for the 2007-2012 OCS Oil and Gas 5-Year Leasing Program. The MMS stated its intent to prepare an EIS in the August 24, 2005, Federal Register notice and Request for Information (RFI). In the Draft Proposed Program (DPP) and Federal Register notice and RFI on February 9, 2006, the MMS again solicited comments and provided procedures for submitting them, and again stated its intent to hold Public Scoping Meetings. The following Public Scoping Meetings are planned for the DEIS development.

Dates and Locations for Public Scoping Meetings

March 6, 2006—Inupiat Heritage Center, Barrow, Alaska, 7 p.m. Contact: Mr. Albert Barros, 907-334-5209.

March 7, 2006—Qargi Center, Kaktovik, Alaska, 7 p.m. Contact: Mr. Albert Barros, 907-334-5209.

March 8, 2006—Kisik Community Center, Nuiqsut, Alaska, 6 p.m. Contact: Mr. Albert Barros, 907-334-5209.

March 9, 2006—Arctic Slope Native Association Building, Wainwright, Alaska, 3 p.m. Contact Mr. Albert Barros, 907-334-5209.

March 13, 2006—City of Dillingham Council Chambers, Dillingham, Alaska, 7 p.m. Contact: Mr. Albert Barros, 907-334-5209.

March 21, 2006—King Salmon Civic Center, King Salmon, Alaska, 7 p.m. Contact: Mr. Albert Barros, 907-334-5209.

March 22, 2006—City of Sand Point Council Chambers, Sand Point, Alaska, 7 p.m. Contact: Mr. Albert Barros, 907-334-5209.

March 23, 2006—Cold Bay Community Center, Cold Bay, Alaska, 7 p.m. Contact: Mr. Albert Barros, 907-334-5209.

March 28, 2006—Wyndham Greenspoint, 12400 Greenspoint Drive, Houston, Texas, 1 p.m. Contact: Mr. Dennis Chew, 504-736-2793.

March 29, 2006—Hampton Inn and Suites, New Orleans-Elmwood, 5150 Mounes Street, Harahan, Louisiana, 1 p.m. Contact: Mr. Dennis Chew, 504-736-2793.

March 30, 2006—Riverview Plaza Hotel, 64 South Water Street, Mobile, Alabama, 7 p.m. Contact: Mr. Dennis Chew, 504-736-2793.

April 4, 2006—Doubletree Hotel, 880 Military Hwy., Norfolk, Virginia, 3 p.m. and 7 p.m Contact: Mr. Norman Froomer, 703-787-1644.

April 5, 2006—Suite 101, 3801 Centerpoint Dr., Anchorage, Alaska, 5 p.m. Contact: Mr. Albert Barros, 907-344-5209.

For further information about preparation of the DEIS, please contact Mr. James Bennett, Chief, Branch of Environmental Assessment, Minerals Management Service, 381 Elden Street, Mail Stop 4042, Herndon, Virginia 20170, (703) 787-1660.

Dated: February 28, 2006.
R.M. “Johnnie” Burton,
Director.

[FR Doc. 06-2100 Filed 3-2-06; 8:45 am]

BILLING CODE 4310-MR-P